DEPARTMENT OF HOMELAND SECURITY

Border and Transportation Security; Notice to Aliens Included in the United States Visitor and Immigrant Status Indicator Technology System (US-VISIT)

AGENCY: Border and Transportation Security Directorate, DHS.

ACTION: Notice.

SUMMARY: The Department of Homeland Security (Department or DHS) has established the United States Visitor and Immigrant Status Indicator Technology Program (US-VISIT), an integrated, automated entry-exit system that records the arrival and departure of aliens; verifies aliens' identities; and authenticates aliens' travel documents through comparison of biometric identifiers. On August 31, 2004, DHS implemented the second phase of US-VISIT by publishing an interim final rule in the Federal Register at 69 FR 53318 authorizing DHS to require certain aliens to provide fingerprints, photographs or other biometric identifiers upon arrival in the United States at the 50 most trafficked land ports of entry. The interim rule also authorized DHS to identify the specific land border ports in a separate notice published in the Federal Register.

This notice identifies the 50 most trafficked land ports of entry where US-VISIT will be implemented. The notice further provides an estimated date when each port will begin enrolling aliens in US-VISIT at the secondary inspection area. Pursuant to the August 31, 2004 interim rule, all 50 ports of entry will begin enrolling aliens in US-VISIT no later than December 31, 2004.

In addition, as stated in the August 31, 2004 interim rule, this notice identifies only land ports of entry in which aliens will be enrolled in US-VISIT upon entry into the United States. DHS will announce, through a future notice in the Federal Register, the piloting of a biometric data collection program at a limited number of sites as part of US-VISIT processing upon departure from the United States.

FOR FURTHER INFORMATION, CONTACT: Michael Hardin, Senior Policy Advisor, US-VISIT, Border and Transportation Security, Department of Homeland Security, 1616 N. Fort Myer Drive, 18th Floor, Arlington, Virginia 22209, (202) 298-5200.

The 50 Land Border Ports of Entry (POEs) that will begin biometric data collection as part of US-VISIT processing no later than December 31, 2004 are as follows:

Estimated start date of November 15, 2004 (6):

Port Huron POE, Blue Water Bridge, Highway 69 and International Border, Port Huron, Michigan

Douglas POE, Rte 191 and International Border, Douglas, AZ

Lincoln-Juarez Bridge POE, Laredo, TX

Gateway to the Americas International Bridge POE, Laredo, TX

Columbia Solidarity Bridge POE, Laredo, TX

World Trade Bridge POE, Laredo, TX

Estimated start date of December 6, 2004 (11):

Niagara Falls POE (to include Lewiston-Queenstown, Whirlpool, and Rainbow Bridges), Niagara Falls, NY

Peace Bridge POE, Moore Drive and International Border, Buffalo, NY

Detroit Ambassador Bridge POE, Detroit, MI

Detroit-Windsor Tunnel POE, Detroit, MI

Lukeville POE, Highway 85 & International Border, Lukeville, AZ

Nogales East (Deconcini POE), Nogales, AZ

Nogales West (Mariposa POE), Nogales, AZ

San Luis POE, Highway 95 & International Border, San Luis, AZ

Andrade POE, Andrade, CA

Calexico East-Imperial Valley POE, Rte 111 and International Border, Calexico, CA

Calexico West POE, Rte 111 and International Border, Calexico, CA

Estimated start date of December 13, 2004 (11):

Fabens POE 18051, Island Guadalupe, Fabens, TX

Presidio POE, Border Station Highway 67, Presidio, TX 79845

Santa Teresa POE, Santa Teresa, NM

Otay Mesa POE, 9777 Via De La Amistad, San Diego, CA

San Ysidro POE, Highway 5 and International Border, San Diego, CA

Tecate POE, Hwy 188 and International Border, Tecate, CA

Blaine-Pacific Highway POE, Rte. 543 and International Border, Blaine, WA

Blaine-Peace Arch POE, Interstate 5 and International Border, Blaine, WA

Lynden POE, Rte. 539 and International Border, Lynden, WA

Point Roberts POE, Tyee Drive and Roosevelt Way, Point Roberts, WA

Sumas POE, Cherry Street and International Avenue, Sumas, WA

Estimated start date of December 20, 2004 (10):

Champlain POE, Highway 87 and International Border, Champlain, NY

Massena POE, Rte. 45 and International Border, Rooseveltown, NY

Thousand Islands POE, Highway 81 and International Border, Alexandria Bay, NY

Sault Ste. Marie POE, The International Bridge, Highway 75 and International Border, Sault Ste. Marie, MI

Bridge of the Americas POE, El Paso, TX

Paso del Norte Bridge POE, El Paso, TX

Ysleta POE, Ysleta-Zaragoza Bridge, El Paso, TX

Derby Line POE, Highway 91 and International Border, Derby Line, VT

Calais—Ferry Point POE, Main Street and International Border, Calais, ME

International Falls POE, Rte 53 and International Border, International Falls, MN

Estimated start date of December 27, 2004 (12):

Gateway International Bridge POE, Brownsville, TX

Brownsville/Matamoros Bridge POE, Brownsville, TX

Hidalgo POE, McAllen-Hidalgo-Reynosa International Bridge, McAllen, TX

Los Indios POE, Free Trade Bridge at Los Indios, Los Indios, TX

Los Tomates/Veterans International Bridge POE, Brownsville, TX

Pharr POE, Pharr-Reynosa International Bridge, Pharr, TX

Progreso POE, Progreso/Nuevo Progreso International Bridge, Progreso, TX

Rio Grande City POE, Starr-Camargo Bridge, Rio Grande City, TX

Roma POE, Roma-Ciudad Miguel Alemán Bridge, Highway 83 and International Border, Roma, TX

Del Rio POE, Del Rio/Cuidad Acuna International Bridge, Garfield Avenue and International Border, Del Rio, TX

Eagle Pass Bridge I POE, Eagle Pass/Piedras Negras Bridge, Highway 57 and International Border, Eagle Pass, TX

Eagle Pass Bridge II POE, Camino Real International Bridge, Highway 57 and International Border, Eagle Pass, TX

DHS has included these dates as estimates only. Should changes occur following the publication of this notice, revised estimated dates can be found on the US-VISIT Web site at http://www.dhs.gov/us-visit. All of these listed ports of entry, however, will begin US-VISIT implementation by December 31, 2004.

Dated: October 11, 2004.
Tom Ridge,
Secretary of Homeland Security.

[FR Doc. 04-24966 Filed 11-8-04; 8:45 am]

BILLING CODE 4410-10-P